DEPARTMENT OF THE INTERIOR

Bureau of Indian Affairs

Rincon Alcohol Control Ordinance No. 99-01 of the Rincon, San Luiseño Band of Mission Indians, Valley Center, CA

AGENCY: Bureau of Indian Affairs, Interior.

ACTION: Notice.

SUMMARY: This notice publishes the Rincon Alcohol Control Ordinance No. 99-01. The Ordinance regulates the control of, the possession of, and the sale of liquor on the Rincon, San Luiseño Band of Mission Indians' trust lands, and is in conformity with the laws of the State of California, where applicable and necessary. Although the Ordinance was adopted on June 13, 2000, it does not become effective until published in the Federal Register because the failure to comply with the ordinance may result in criminal charges.

DATES: This Ordinance is effective on October 6, 2000.

FOR FURTHER INFORMATION CONTACT: Kaye Armstrong, Office of Tribal Services, 1849 C Street, NW, MS-4631-MIB, Washington, DC 20240-4001; telephone (202) 208-4400.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transaction in Indian country. The Rincon Alcohol Control Ordinance No. 99-01 was duly adopted by the Rincon, San Luiseño Band of Mission Indians General Membership on June 13, 2000. The Rincon, San Luiseño Band of Mission Indians, in furtherance of its economic and social goals, has taken positive steps to regulate retail sales of alcohol and use revenues to combat alcohol abuse and its debilitating effects among individuals and family members within the Rincon, San Luiseño Band of Mission Indians.

This notice is being published in accordance with the authority delegated by the Secretary of the Interior to the Assistant Secretary-Indian Affairs by 209 Departmental Manual 8.

I certify that by Resolution No. 2000-04, the Rincon Alcohol Control Ordinance No. 99-01 was duly adopted by the Rincon, San Luiseño Band of Mission Indians General Membership on June 13, 2000.

Dated: September 29, 2000.
Kevin Gover,
Assistant Secretary-Indian Affairs.

The Rincon Alcohol Control Ordinance No. 99-01 reads as follows:

Rincon Alcohol Control Ordinance No. 99-01

Section 200.01. Title

This ordinance shall be known as the Rincon Ordinance Regulating and Controlling the Manufacture, Introduction, Sale or Possession of Alcoholic Beverages within the boundaries of the Rincon Indian Reservation. The short title of this Ordinance shall be “Rincon Alcohol Control Ordinance.”

Section 200.02. Authority

This Ordinance is enacted pursuant to federal law, specifically the Act of August 15, 1953, Public Law 83-277, 67 Stat. 588, 18 U.S.C. 1161, and the Articles of Association, Governing Procedures for Administering the Affairs of The Rincon, San Luiseño Band of Mission Indians, California.

Section 200.03. Purpose

The purpose of this Ordinance is to regulate and control the possession and sale of alcohol within the exterior boundaries of the Rincon Indian Reservation, and to permit alcohol sales by tribally owned, controlled or operated enterprises, and at tribally approved special events, for the purpose of the economic development of the Rincon Band. The enactment of a tribal ordinance governing alcohol possession and sales within the exterior boundaries of the Rincon Indian Reservation increases the ability of the Rincon Tribal Government to control reservation alcohol distribution and possession, and will provide an important source of revenue for the continued operation and strengthening of the tribal government and the economic viability of tribal government services. This Rincon Alcohol Control Ordinance is in conformity with the laws of the State of California as required by 18 U.S.C. 1161, and with all applicable federal laws.

Section 200.04. Manufacture of Alcohol

The manufacture of alcoholic beverages by business enterprises owned by or subject to the control of the Rincon Band shall be lawful within the exterior boundaries of the Rincon Indian Reservation; provided that such manufacture is in conformity with the laws of the State of California as required by federal law.

Section 200.05. Possession of Alcohol

The introduction or possession of alcoholic beverages shall be lawful within the exterior boundaries of the Rincon Indian Reservation; provided that such introduction or possession is in conformity with the laws of the State of California as required by federal law.

Section 200.06. Sales of Alcohol

(a) The sale of alcoholic beverages by business enterprises owned or operated by, or subject to the control of, the Rincon Band shall be lawful within the exterior boundaries of the Rincon Indian Reservation; provided that such sale is in conformity with the laws of the State of California as required by federal law.

(b) The sale of alcoholic beverages by the drink at special events authorized by the Rincon Band shall be lawful within the exterior boundaries of the Rincon Indian Reservation; provided that such sales are in conformity with the laws of the State of California as required by federal law and with prior approval by Resolution of the Tribal Council of the Rincon Band.

Section 200.07. Age Limits

(a) The drinking age within the exterior boundaries of the Rincon Indian Reservation shall be the same as that of the State of California as required by federal law. No person under such age shall purchase, possess or consume any alcoholic beverage within the exterior boundaries of the Rincon Indian Reservation.

(b) The State of California sets the drinking age within California under California Business and Professions Code § 25658. California's drinking age is 21 at the time of the enactment of this Ordinance.

(c) At such time, if any, as California Business and Professions Code § 25658 is repealed or amended to raise or lower the drinking age within California, subsection (b) above shall automatically become null and void, and the Tribal Council shall be empowered to enact a new subsection to reference the appropriate provision of the state law, such amendment to become effective upon publication in the Federal Register by the Secretary of the Interior.

Section 200.08. Civil Penalties

The Rincon Band, through its Tribal Council and duly authorized security personnel, shall have the authority to enforce this Ordinance by confiscating any alcohol manufactured, introduced, sold or possessed in violation hereof. The Tribal Council shall be empowered to sell such confiscated alcohol for the benefit of the Rincon Band, and to develop and approve such regulations as may become necessary for enforcement of this Ordinance.

Section 200.09. Severability

If any provision of this Ordinance is determined by review to be invalid, such adjudication shall not be held to render ineffectual the remaining portions of this Ordinance or to render such provisions inapplicable to other persons or circumstances.

Section 200.10. Prior Enactments

Any and all prior enactments of the Rincon Band which are inconsistent with the provisions of this Ordinance are hereby rescinded.

Section 200.11. Conformance With California Laws

All acts and transactions under this Ordinance shall be in conformity with the laws of the State of California as the term is used in 18 U.S.C. 1161.

Section 200.12. Effective Date

This Ordinance shall be effective on October 6, 2000.

Section 200.13. Amendment

This Ordinance may be amended only by a majority vote of the Rincon General Council.

Section 200.14. Sovereign Immunity

Nothing contained in this Ordinance is intended to, nor does, in any way, limit, alter, restrict, or waive the Tribe's sovereign immunity from unconsented suit or action.

[FR Doc. 00-25799 Filed 10-5-00; 8:45 am]

BILLING CODE 4310-02-P